DEPARTMENT OF HEALTH AND HUMAN SERVICES

Health Resources and Services Administration

Agency Information Collection Activities: Submission to OMB for Review and Approval; Public Comment Request; Rural Communities Opioid Response Program Performance Measures, OMB No. 0906-xxxx, New.

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than August 26, 2019.

ADDRESSES: Submit your comments, including the ICR title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: Rural Communities Opioid Response Program Performance Measures, OMB No. 0906-xxxx, New

Abstract: The Rural Communities Opioid Response Program (RCORP) is a multi-initiative program that aims to: (1) Support treatment for, and prevention of, substance use disorder (SUD), including opioid use disorder (OUD); and (2) reduce morbidity and mortality associated with SUD, to include OUD, by improving access to prevention, treatment, and recovery support services to high-risk rural communities. To support this purpose, RCORP grant initiatives include:

• RCORP-Planning grants to strengthen the capacity of multi-sector consortia to collaborate and develop plans to deliver SUD/OUD prevention, treatment, and recovery services in high-risk rural communities;

• RCORP-Implementation grants to fund established networks and consortia to deliver SUD/OUD prevention, treatment, and recovery activities in high-risk rural communities; and

• RCORP-Medication Assisted Treatment Expansion grants to enhance access to medication-assisted treatment within eligible hospitals, health clinics, or tribal organizations in high-risk rural communities.

Additionally, all RCORP grant award recipients will be supported by five cooperative agreements: RCORP-Technical Assistance, which provides extensive technical assistance to award recipients; RCORP-Evaluation, which will evaluate the impact of the RCORP initiative on rural communities; and three RCORP-Rural Centers of Excellence in Substance Use Disorders, which will disseminate best practices related to the treatment for, and prevention of, SUD within rural communities. A 60-day notice was published in the Federal Register on April 12, 2019, vol. 84, No. 71; pp. 14949-14950. There were no public comments.

Need and Proposed Use of the Information: For this program, performance measures were developed to provide data on each RCORP initiative and to enable HRSA to provide aggregate program data required by Congress under the Government Performance and Results Act of 1993. These measures cover the principal topic areas of interest to the Federal Office of Rural Health Policy (FORHP), including: (a) Provision of, and referral to, SUD treatment and support services; (b) SUD prevention, treatment, and recovery process and outcomes; (c) education of health care providers and community members; (d) number of fatal and non-fatal opioid-related overdoses; and (e) consortium strength and sustainability. All measures will speak to FORHP's progress toward meeting the goals set.

Likely Respondents: The respondents will be the grant award recipients of RCORP initiatives.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent (annually) | Total responses | Average burden per response (in hours) | Total burden hours
Rural Communities Opioid Response Program Performance Measures | 243 | 2 | 486 | 5.66 | 2,750
Total | 243 |  | 486 |  | 2,750

Maria G. Button,
Director, Division of the Executive Secretariat.

[FR Doc. 2019-15883 Filed 7-25-19; 8:45 am]

BILLING CODE 4165-15-P